DEPARTMENT OF HEALTH AND HUMAN SERVICES

Food and Drug Administration

[Docket No. FDA-2022-N-0571]

Ortho-phthalates for Food Contact Use; Request for Information

Correction

In notice document 2022-10532, appearing on pages 31090-31091, in the issue of Friday, May 20, 2022, make the following correction:

On page 31090, in the first column, in the standard document heading, the Subject line that reads “Ortho-phthlates for Food Contact Use; Request for Information” is corrected to read “Ortho-phthalates for Food Contact Use; Request for Information”.

[FR Doc. C1-2022-10532 Filed 6-15-22; 8:45 am]

BILLING CODE 0099-10-P